DEPARTMENT OF TRANSPORTATION

Federal Aviation Administration

14 CFR Part 39

[Docket No. FAA-2024-0235; Project Identifier MCAI-2022-01376-R; Amendment 39-22747; AD 2024-10-02]

RIN 2120-AA64

Airworthiness Directives; Leonardo S.p.a. Helicopters

AGENCY: Federal Aviation Administration (FAA), DOT.

ACTION: Final rule.

SUMMARY: The FAA is adopting a new airworthiness directive (AD) for certain Leonardo S.p.a. Model AW189 helicopters. This AD was prompted by a report of an uncommanded deployment of the emergency life-raft system (ELS). This AD requires a one-time inspection of the life-raft installations and, depending on the results, accomplishing additional actions, as specified in a European Union Aviation Safety Agency (EASA) AD, which is incorporated by reference. The FAA is issuing this AD to address the unsafe condition on these products.

DATES: This AD is effective July 22, 2024.

The Director of the Federal Register approved the incorporation by reference of a certain publication listed in this AD as of July 22, 2024.

ADDRESSES:

AD Docket: You may examine the AD docket at regulations.gov under Docket No. FAA-2024-0235; or in person at Docket Operations between 9 a.m. and 5 p.m., Monday through Friday, except Federal holidays. The AD docket contains this final rule, the EASA AD, any comments received, and other information. The address for Docket Operations is U.S. Department of Transportation, Docket Operations, M-30, West Building Ground Floor, Room W12-140, 1200 New Jersey Avenue SE, Washington, DC 20590.

Material Incorporated by Reference:

• For EASA material, contact EASA, Konrad-Adenauer-Ufer 3, 50668 Cologne, Germany; phone +49 221 8999 000; email ADs@easa.europa.eu; website easa.europa.eu. You may find the EASA material on the EASA website ad.easa.europa.eu.

• You may view this material at the FAA, Office of the Regional Counsel, Southwest Region, 10101 Hillwood Parkway, Room 6N-321, Fort Worth, TX 76177. For information on the availability of this material at the FAA, call (817) 222-5110. It is also available at regulations.gov under Docket No. FAA-2024-0235.

Other Related Service Information: For Leonardo Helicopters service information identified in this final rule, contact Leonardo S.p.A., Emanuele Bufano, Head of Airworthiness, Viale G. Agusta 520, 21017 C. Costa di Samarate (Va) Italy; phone (+39) 0331-225074; fax (+39) 0331-229046; website customerportal.leonardocompany.com/en-US/. You may also view this service information at the FAA contact information under Material Incorporated by Reference above.

FOR FURTHER INFORMATION CONTACT: Sungmo Cho, Aviation Safety Engineer, FAA, 1600 Stewart Avenue, Suite 410, Westbury, NY 11590; phone: (781) 238-7241; email: sungmo.d.cho@faa.gov.

SUPPLEMENTARY INFORMATION:

Background

EASA, which is the Technical Agent for the Member States of the European Union, has issued EASA AD 2022-0214, dated October 21, 2022 (EASA AD 2022-0214), to correct an unsafe condition on certain serial-numbered Leonardo S.p.A. Model AW189 helicopters.

The FAA issued a notice of proposed rulemaking (NPRM) to amend 14 CFR part 39 by adding an AD that would apply to certain Leonardo S.p.a. Model AW189 helicopters. The NPRM published in the Federal Register on February 27, 2024 (89 FR 14420). The NPRM was prompted by a report of an uncommanded deployment of the ELS. Subsequent investigation determined incorrect installation of its control cable could have caused the occurrence. The NPRM proposed to require a one-time inspection of the life-raft installations and, depending on the results, accomplishing additional actions, as specified in EASA AD 2022-0214.

The FAA is issuing this AD to address unintended activation and deployment of the ELS. The unsafe condition, if not addressed, could result in unintended activation and deployment of the ELS in flight with possible impact on the rotors, resulting in reduced control of the helicopter.

Discussion of Final Airworthiness Directive

Comments

The FAA received no comments on the NPRM or on the determination of the costs.

Conclusion

These helicopters have been approved by EASA and are approved for operation in the United States. Pursuant to the FAA's bilateral agreement with the European Union, EASA has notified the FAA about the unsafe condition described in its AD. The FAA reviewed the relevant data and determined that air safety requires adopting this AD as proposed. Accordingly, the FAA is issuing this AD to address the unsafe condition on these helicopters.

Related Service Information Under 1 CFR Part 51

EASA AD 2022-0214 requires a one-time inspection of both the left- and right-side life-raft installations for certain serial-numbered helicopters and, depending on findings, replacing its control cable and checking the assembly, replacing a cable pulley cover, correcting the cable installation, and replacing the life-raft assembly, as applicable.

This material is reasonably available because the interested parties have access to it through their normal course of business or by the means identified in the ADDRESSES section.

Other Related Service Information

The FAA also reviewed Leonardo Helicopters Alert Service Bulletin No.189-315, dated October 20, 2022. This service information specifies procedures for inspecting the ELS.

Differences Between This AD and the EASA AD

The service information referenced in EASA AD 2022-0214 specifies taking pictures, completing an inspection report, and sending removed parts to the manufacturer, whereas this AD does not include those actions.

The service information referenced in EASA AD 2022-0214 cautions that step 3.3 shall be performed by trained operators or by authorized service stations only, whereas this AD requires that step to be accomplished by persons authorized under 14 CFR 43.3.

EASA AD 2022-0214 refers to the emergency life-raft assembly inspection as a “check,” whereas this AD refers to that action as an “inspection” because that action must be accomplished by persons authorized under 14 CFR 43.3.

EASA AD 2022-0214 allows installing inoperative placard(s) in clear view of both pilots to defer certain corrective action, provided all flight crews are informed and, thereafter, the helicopter is operated accordingly. FAA regulations mandate compliance with placards. However, this AD does not require informing flight crews or operating the helicopter accordingly because compliance with such requirements in an AD is impracticable to demonstrate or track on an ongoing basis; therefore, a requirement to operate the aircraft in such a manner is unenforceable. Nonetheless, flight crews of the helicopters identified in the applicability must operate in accordance with the placard(s) in this AD.

Costs of Compliance

The FAA estimates that this AD affects 4 helicopters of U.S. Registry. Labor rates are estimated at $85 per work-hour. Based on these numbers, the FAA estimates the following costs to comply with this AD.

Inspecting the left- and right-hand side life-raft installations will take approximately 4 work-hours for an estimated cost of $340 per helicopter and $1,360 for the U.S. fleet.

If required, replacing a control cable and inspecting the life-raft assembly will take approximately 1 work-hour and parts cost approximately $1,665 for an estimated cost of $1,750 per side. If required, replacing a pulley cover will take approximately 0.5 work-hour and parts cost approximately $100 for an estimated cost of $143 per side. If required, correcting the cable installation will take approximately 4 work-hours and cost approximately $340 per side. If required, replacing a life raft assembly will take approximately 4 work-hours and parts cost approximately $125,700 for an estimated cost of $126,040 per side.

The FAA has included all known costs in its cost estimate. According to the manufacturer, however, some of the costs of this AD may be covered under warranty, thereby reducing the cost impact on affected operators.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2024-10-02 Leonardo S.p.a.: Amendment 39-22747; Docket No. FAA-2024-0235; Project Identifier MCAI-2022-01376-R.

(a) Effective Date

This airworthiness directive (AD) is effective July 22, 2024.

(b) Affected ADs

None.

(c) Applicability

This AD applies to Leonardo S.p.a. Model AW189 helicopters, certificated in any category, as identified in European Union Aviation Safety Agency (EASA) AD 2022-0214, dated October 21, 2022 (EASA AD 2022-0214).

(d) Subject

Joint Aircraft Service Component (JASC) Code 2564, Life Raft.

(e) Unsafe Condition

This AD was prompted by a report of an uncommanded deployment of the Emergency life-raft system (ELS), possibly due to an incorrect installation of its control cable. The FAA is issuing this AD to address unintended activation and deployment of the ELS. The unsafe condition, if not addressed, could result in unintended activation and deployment of the ELS in flight with possible impact on the rotors, resulting in reduced control of the helicopter.

(f) Compliance

Comply with this AD within the compliance times specified, unless already done.

(g) Requirements

Except as specified in paragraphs (h) and (i) of this AD: Comply with all required actions and compliance times specified in, and in accordance with, EASA AD 2022-0214.

(h) Exceptions to EASA AD 2022-0214

(1) Where EASA AD 2022-0214 refers to “flight hours,” this AD requires replacing those words with “hours time-in-service.”

(2) Where EASA AD 2022-0214 refers to its effective date, this AD requires using the effective date of this AD.

(3) Where the service information referenced in paragraph (1) of EASA AD 2022-0214 specifies taking pictures and completing the inspection report, this AD does not include those requirements.

(4) Where the service information referenced in paragraph (1) of EASA AD 2022-0214 states, “damage (e.g., wear or bird caging)” or “damaged” when referring to the control cable that comes out from the sheath; for this AD, replace that text with, “damage, which may be indicated by wear, corrosion, a broken wire, a necked down section, a kink, bird-caging, a flattened area, abrasion, or gouging.”

(5) Where the service information referenced in paragraph (1) of EASA AD 2022-0214 states, “condition (no sign of damage, cracks or missing parts)” or “damaged” when referring to the break-away pin; for this AD, replace that text with, “damage, which may be indicated by wear, corrosion, nick, cracks, or distortion.”

(6) Where the service information referenced in paragraph (1) of EASA AD 2022-0214 states, “condition,” “damage/wear,” and “damages” when referring to the pulley cover; for this AD, replace that text with, “damage, which may be indicated by abrasion, cracks, punctures, cuts, corrosion, or distortion.”

(7) Where the service information referenced in paragraph (1) of EASA AD 2022-0214 specifies removing the pully cover in case it is not possible to properly inspect the whole cover; for this AD, removing the pulley cover to inspect the whole cover is required.

(8) Where the service information referenced in paragraph (1) of EASA AD 2022-0214 cautions that step 3.3 shall be performed by trained operators or by authorized service stations only, this AD does not include those cautions. For this AD, step 3.3 must be accomplished by persons authorized under 14 CFR 43.3.

(9) Where paragraph (2) of EASA AD 2022-0214 specifies “accomplish a check of the affected emergency life-raft assembly,” this AD requires replacing that text with “accomplish an emergency life-raft assembly inspection.”

(10) Where paragraph (4) of EASA AD 2022-0214 specifies “during the check of the emergency life-raft assembly as required by paragraph (2) of this AD,” this AD requires replacing that text with “during the life-raft assembly inspection as required by paragraph (2) of this AD.”

(11) Where paragraph (5) of EASA AD 2022-0214 specifies “before next flight after the check as required by paragraph (2) of this AD,” this AD requires replacing that text with “before next flight after the life-raft assembly inspection as required by paragraph (2) of this AD.”

(12) Where paragraph (5) of EASA AD 2022-0214 specifies to inform all flight crews and, thereafter, operate the helicopter accordingly, this AD does not require those actions.

(13) Where Table 1 of paragraph (5) of EASA AD 2022-0214 specifies “Within 120 days after accomplishment of the inspection as required by paragraph (1) of this AD”, this AD requires replacing that text with “Before next flight over water.”

(14) This AD does not adopt the “Remarks” section of EASA AD 2022-0214.

(i) No Reporting or Return of Parts

Although the service information referenced in EASA AD 2022-0214 specifies to submit certain information and send removed parts to the manufacturer, this AD does not include those requirements.

(j) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (k) of this AD. Information may be emailed to: 9-AVS-AIR-730-AMOC@faa.gov.

(2) Before using any approved AMOC, notify your appropriate principal inspector, or lacking a principal inspector, the manager of the local flight standards district office/certificate holding district office.

(k) Related Information

For more information about this AD, contact Sungmo Cho, Aviation Safety Engineer, FAA, 1600 Stewart Avenue, Suite 410, Westbury, NY 11590; phone: (781) 238-7241; email: sungmo.d.cho@faa.gov.

(l) Material Incorporated by Reference

(1) The Director of the Federal Register approved the incorporation by reference of the service information listed in this paragraph under 5 U.S.C. 552(a) and 1 CFR part 51.

(2) You must use this service information as applicable to do the actions required by this AD, unless this AD specifies otherwise.

(i) European Union Aviation Safety Agency (EASA) AD 2022-0214, dated October 21, 2022.

(ii) [Reserved]

(3) For EASA AD 2022-0214, contact EASA, Konrad-Adenauer-Ufer 3, 50668 Cologne, Germany; phone +49 221 8999 000; email ADs@easa.europa.eu; website easa.europa.eu. You may find the EASA material on the EASA website ad.easa.europa.eu.

(4) You may view this material at the FAA, Office of the Regional Counsel, Southwest Region, 10101 Hillwood Parkway, Room 6N-321, Fort Worth, TX 76177. For information on the availability of this material at the FAA, call (817) 222-5110.

(5) You may view this material at the National Archives and Records Administration (NARA). For information on the availability of this material at NARA, visit www.archives.gov/federal-register/cfr/ibr-locations or email fr.inspection@nara.gov.

Issued on May 8, 2024.
James D. Foltz,
Deputy Director, Compliance & Airworthiness Division, Aircraft Certification Service.

[FR Doc. 2024-13163 Filed 6-14-24; 8:45 am]

BILLING CODE 4910-13-P